DEPARTMENT OF THE INTERIOR

Fish and Wildlife Service

[FWS-R2-R-2013-N265: FF02R06000-FXRS1265022LPP-134]

Establishment of the Rio Mora National Wildlife Refuge and Rio Mora Conservation Area, Colfax, Mora, and San Miguel Counties, NM

AGENCY: Fish and Wildlife Service, Interior.

ACTION: Notice.

SUMMARY: This notice advises the public that the U.S. Fish and Wildlife Service (Service) has established the Rio Mora National Wildlife Refuge and Conservation Area as a unit of the National Wildlife Refuge System. The Service established the Rio Mora National Wildlife Refuge and Conservation Area on September 27, 2012, by acquiring, through donation from the Thaw Charitable Trust, the 4,224-acre Wind River Ranch in Mora County, New Mexico.

ADDRESSES: A map depicting the approved boundary and other information regarding the Rio Mora National Wildlife Refuge and Conservation Area are available on the Internet at http://www.fws.gov/southwest/refuges/Plan/planindex.html.

FOR FURTHER INFORMATION CONTACT: Steve Kettler, Land Protection Planner, by U.S. mail at U.S. Fish and Wildlife Service, Division of Planning, P.O. Box 1306, Albuquerque, NM 87103-1306, or by email at steve_kettler@fws.gov.

SUPPLEMENTARY INFORMATION: The Service has established the Rio Mora National Wildlife Refuge in Mora County, New Mexico, and the Rio Mora Conservation Area, including portions of Colfax, Mora, and San Miguel Counties, New Mexico. The Service may pursue protection and management of wildlife resources in the conservation area through purchase of perpetual conservation easements or fee title purchase from willing sellers, or through cooperative management agreements and partnerships. These actions will contribute to maintaining the biological integrity and sustainable human uses of the area, maintaining both rare and common species, and supporting the ecological function and resiliency within the larger landscape.

The goal for the project is to protect and restore habitat in support of species recovery plans, State and regional conservation plans, and major bird conservation plans, and to maintain native species and sustainable ecosystems. The maximum long-term potential for fee and easement acquisition would be 300,000 acres within the approximately 952,000-acre Mora River watershed, which forms the boundary of the conservation area.

Within the conservation area, the Service is authorized to accept donations of land or may purchase property using the acquisition authority of the Fish and Wildlife Act of 1956 (16 U.S.C. 742a-j); the Migratory Bird Conservation Act of 1929 (16 U.S.C. 715-715d, 715e, 715f-r); the Endangered Species Act of 1973 (16 U.S.C. 1531 et seq.); the Refuge Recreation Act of 1962 (16 U.S.C. 460k-460k-4); and the National Wildlife Refuge System Administration Act of 1966 (16 U.S.C. 668dd(b)(3)). The principal Federal funding sources to acquire property are the Land and Water Conservation Fund Act of 1965 (16 U.S.C. 460l-4-460l-11; funds received from this act are derived primarily from oil and gas leases on the outer continental shelf, motorboat fuel tax revenues, and sale of surplus Federal property) and the Migratory Bird Hunting and Conservation Stamp Act of 1934 (16 U.S.C. 718-718h); funds for this act are derived from the sale of federal duck stamps. There could be additional funds to acquire lands, waters, or interest therein for fish and wildlife conservation purposes through other congressional appropriations, donations, or grants from nonprofit organizations and other sources.

The Service has involved the public, agencies, partners, and legislators throughout the planning process for the refuge and conservation area. In July 2011, the Service initiated public involvement and announced public scoping meetings to be held to describe the proposed project and solicit feedback. Two public scoping meetings were held in the local area: the first in Mora, New Mexico, on July 25, 2011, and the second in Las Vegas, New Mexico, on July 26, 2011. Comments were accepted during the public scoping period from July 25, 2011, to September 19, 2011.

In compliance with the National Environmental Policy Act of 1969 (42 U.S.C. 4321 et seq.), the Service prepared an environmental assessment that evaluated three alternatives and their potential impacts on the project area. The draft environmental assessment and a draft land protection plan were made available for a public review and comment period (March 30 through May 1, 2012). Two hearings were held during this period to offer the public additional opportunities to provide input on the proposed actions and the draft documents. The first hearing was held in Mora, New Mexico, on April 12th, and the second, in Las Vegas, New Mexico, on April 13th, 2012. Over 84 landowners, citizens, and elected officials (or their representatives) attended the 2 hearings, and 8 individuals gave public comment. Afterwards the Service received an additional eight comments in written hardcopy, and via email or phone. Comments received at the hearings and by other means throughout the comment period were reviewed, added to the administrative record, and, if substantial, addressed in the environmental assessment or land protection plan.

Based on the documentation contained in the environmental assessment, a Finding of No Significant Impact was signed on June 13, 2012, for the establishment of the Rio Mora National Wildlife Refuge and Conservation Area. The Service established the Rio Mora National Wildlife Refuge and Conservation Area on September 27, 2012, by acquiring the 4,224-acre Wind River Ranch in Mora County, New Mexico.

Dated: December 12, 2012.
Benjamin N. Tuggle,
Regional Director, Southwest Region, U. S. Fish and Wildlife Service.

Editorial Note: This document was received at the Office of the Federal Register June 10, 2013.

[FR Doc. 2013-14039 Filed 6-12-13; 8:45 am]

BILLING CODE 4310-55-P